DEPARTMENT OF THE INTERIOR

Bureau of Land Management

[ID-070-1210-PA-241E]

Extension of Restrictions, ID

AGENCY: Bureau of Land Management, Interior.

ACTION: Notice of extension of restrictions adjacent to and within the Sand Mountain WSA, Idaho.

SUMMARY: In accordance with Title 43 Group 8000-Recreation Programs, and in accordance with the principles established by the Federal Land Policy and Management Act of 1976 and the National Environmental Policy Act of 1969, Notice is hereby given that temporary restrictions previously published in the Federal Register are hereby extended. These actions are under the authority of 43 CFR 8364.

The restrictions extended include the following Notices:

• Notice of restricted motor vehicle use [57 FR 36405]

• Notice of Recreation Use Restrictions and Regulations for Egin Lakes Access and Red Road Recreation Sites Adjacent and Within the Sand Mountain Wilderness Study Area (WSA), Idaho [64 FR 27804]

• Notice of Recreation Use Restrictions and Regulations for Egin Lakes Access and Red Road Recreation Sites Adjacent and Within the Sand Mountain Wilderness Study Area (WSA), Idaho [64 FR 46935]

DATES: The restrictions will be extended for the period on or before July 8, 2002.

ADDRESSES: Bureau of Land Management, Idaho Falls Field Office, 1405 Hollipark Drive, Idaho Falls, Idaho 83401. Telephone (208) 524-7500.

SUPPLEMENTARY INFORMATION: The Sand Mountain WSA includes 21,000 acres of public land that is part of the larger St. Anthony Sand Dunes Special Recreation Management Area (SRMA) in Fremont and Jefferson Counties. The aforementioned Federal Register Notices established various restrictions within the WSA and SRMA. These include:

Within the WSA

1. Lands within the WSA are restricted to unlicenced off-road vehicles, including ATVs (3 and 4-wheelers), dual purpose off-road motorcycles and dune buggies or dune rails. All licensed vehicles (with the exception of dual purpose motorcycles) are prohibited, including passenger automobiles, pick-up campers, camp trailers, self-contained campers and similar vehicles.

2. All permitted use must occur on the open sand areas or on designated roads or trails.

3. Glass containers for food and beverages are prohibited within the WSA boundaries.

4. Safety equipment such as helmets, boots, and protective clothing, are strongly recommended.

5. Each vehicle is required to have a “whip flag” not less than 6 feet in length with brightly colored material on the end of the flag.

6. Open campfires are prohibited within the WSA, except in the designated Red Road Open Sand Campfire Area. Within the Red Road Open Sand Campfire Area, burning any foreign material other than wood in all campfires is prohibited. This includes, but is not limited to pallets, treated lumber, tires, glass, aluminum, etc.

7. Use of personal water craft or other motorized vehicle or craft is prohibited on any body of water within the WSA.

Within the SRMA

1. Quiet hours will be observed within the Egin Lakes Access Site and Red Road Recreation Area from 11 p.m. to 7 a.m. nightly.

2. Burning any foreign material other than wood in all campfires is prohibited. This includes, but is not limited to pallets, treated lumber, tires, glass, aluminum, etc.

3. Engaging in fighting is prohibited.

4. Addressing any offensive, derisive, or annoying communication that has a direct tendency to cause acts of violence by the person to whom, individually, the remark is addressed, is prohibited.

5. No person under the age of twenty-one (21) shall possess or consume any alcoholic beverage, as defined by Idaho Code Title 23-105.

These restrictions are intended to reduce the possibility of injury to individuals, or damage to the natural resources within the WSA and the SRMA. Recreational use on the St. Anthony Sand Dunes has increased more than 1000% since 1984, with an estimated 150,000 visitors last season.

Maps of the areas where the restrictions and regulations apply will be available at the Idaho Falls Field Office. Signs with the rules and regulations will be posted at all entrances into the WSA as well as at the recreation sites and areas. For more complete information on these restrictions, please refer to the previously mentioned Federal Register Notices.

FOR FURTHER INFORMATION CONTACT: Bill Boggs, Bureau of Land Management, Upper Snake River District, Idaho Falls Field Office, 1405 Hollipark Drive, Idaho Falls, Idaho 83401, (208) 524-7527.

Dated: April 3, 2001.
Joe Kraayenbrink,
Idaho Falls Field Manager.

[FR Doc. 01-16873 Filed 7-5-01; 8:45 am]

BILLING CODE 4310-GG-P